FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted—October 1, 2020 Thru October 31, 2020
10/01/2020
20201554 | G | SoftBank Vision Fund (AIV M1) L.P.; Plenty Unlimited Inc.; SoftBank Vision Fund (AIV M1) L.P.
20201572 | G | Roelof F. Botha; Square, Inc.; Roelof F. Botha.
10/02/2020
20201544 | G | GuideWell Mutual Holding Corporation; NDBH Holding Company, L.L.C.; GuideWell Mutual Holding Corporation.
10/07/2020
20201340 | G | NRG Energy, Inc.; Centrica plc; NRG Energy, Inc.
20201344 | G | Liberty Media Corporation; The E.W. Scripps Company; Liberty Media Corporation.
20201557 | G | Intrepid Topco, Inc.; Vista Equity Partners Fund VI, L.P.; Intrepid Topco, Inc.
20201573 | G | Gold Parent, L.P.; Carlyle Partners VII Cayman, L.P.; Gold Parent, L.P.
20201575 | G | Tencent Holdings Limited; Mr. Yuk Kwok Cheung Charles; Tencent Holdings Limited.
20201577 | G | Diploma PLC; Carefree Capital, Inc.; Diploma PLC.
20201579 | G | Vector Capital V, L.P.; MarkLogic Corporation; Vector Capital V, L.P.
20201580 | G | Centerbridge Capital Partners III, L.P.; Patrick Cronin; Centerbridge Capital Partners III, L.P.
20201581 | G | Centerbridge Capital Partners III, L.P.; Peter Castaldi; Centerbridge Capital Partners III, L.P.
20201582 | G | KPS Special Situations Fund V, LP; Garrett Motion Inc.; KPS Special Situations Fund V, LP.
20201584 | G | Telefonaktiebolaget LM Ericsson; CradlePoint, Inc.; Telefonaktiebolaget LM Ericsson.
20201585 | G | Red Ventures Holdco, LP; National Amusements, Inc.; Red Ventures Holdco, LP.
20201592 | G | Green Equity Investors Side VIII, L.P.; Warburg Pincus Private Equity XII, L.P.; Green Equity Investors Side VIII, L.P.
20201595 | G | GTCR (AP) Investors LP; People's United Financial, Inc.; GTCR (AP) Investors LP.
20201596 | G | ORIX Corporation; John P. Manning; ORIX Corporation.
20201597 | G | Accenture plc; Seven Seas Business Ventures, LLC; Accenture plc.
20201598 | G | Carlyle Partners VII, LP; Tribute Technology Holdings, LLC; Carlyle Partners VII, LP.
20201599 | G | Compass Diversified Holdings; David T. Traitel; Compass Diversified Holdings.
10/09/2020
20201332 | G | Roper Technologies, Inc.; Allscripts Healthcare Solutions, Inc.; Roper Technologies, Inc.
20201339 | G | Thoma Bravo Discover Fund Global, L.P.; K2 Software, Inc.; Thoma Bravo Discover Fund Global, L.P.
20201591 | G | Newhouse Broadcasting Corporation; Spectrum Equity Investors VI, L.P.; Newhouse Broadcasting Corporation.
10/13/2020
20201357 | G | KPS Special Situations Fund IV, LP; Schlumberger N.V. (Schlumberger Limited); KPS Special Situations Fund IV, LP.
10/14/2020
20201610 | G | EnPro Industries, Inc.; Michael A. Scobey; EnPro Industries, Inc.
20201612 | G | Ardian North America Fund II, LP; Acousti Engineering Company of Florida; Ardian North America Fund II, LP.
20201614 | G | Steven A. Cohen; Mets Holdco LLC; Steven A. Cohen.
20201616 | G | CSC Veregy Holdings, L.P.; CTS Super Holdco, LLC; CSC Veregy Holdings, L.P.
20201626 | G | Icon Software Partners, L.P.; Pulse Secure Holdings, LLC; Icon Software Partners, L.P.
20201629 | G | Michael Hollingshead and Melissa Hollingshead; Sequatchie Concrete Service, Inc.; Michael Hollingshead and Melissa Hollingshead.
20201635 | G | Corporate Travel Management Limited; Travel and Transport, lnc.; Corporate Travel Management Limited.
20201636 | G | Global Infrastructure Solutions Inc.; Rocco Trotta; Global Infrastructure Solutions Inc.
20201640 | G | Justin Mirro; QuantumScape Corporation; Justin Mirro.
20201641 | G | Sun Communities, Inc.; Safe Harbor Marinas, LLC; Sun Communities, Inc.
20201645 | G | Mr. Michael J. Angelakis; Mr. Terrence L. Wright; Mr. Michael J. Angelakis.
20210001 | G | Warburg Pincus Global Growth, L.P.; Kenneth A. LoBianco Revocable Trust,; Warburg Pincus Global Growth, L.P.
20210003 | G | Koninklijke Vopak N.V.; The Dow Chemical Company; Koninklijke Vopak N.V.
20210004 | G | Global Energy & Power Infrastructure Fund III, L.P.; The Dow Chemical Company; Global Energy & Power Infrastructure Fund III, L.P.
20210005 | G | Pivotal Investment Corporation II; XL Hybrids, Inc.; Pivotal Investment Corporation II.
10/15/2020
20210009 | G | Legacy Acquisition Sponsor I LLC; In Colour Capital; Legacy Acquisition Sponsor I LLC.
20210010 | G | Trident VIII, L.P.; Vista Foundation Fund II (Cayman) L.P.; Trident VIII, L.P.
20210012 | G | KPAE Holdings, L.P.; The Resolute Fund III, L.P.; KPAE Holdings, L.P.
20210014 | G | New Mountain Partners VI Direct Aggregator, L.P.; Alpine Investors V, LP; New Mountain Partners VI Direct Aggregator, L.P.
20210015 | G | PPC Fund II LP; Robert N. Schlott; PPC Fund II LP.
20210016 | G | PPC Fund II LP; Sterling Group Partners III, L.P.; PPC Fund II LP.
20210017 | G | Seth Goldman; Beyond Meat, Inc.; Seth Goldman.
20210021 | G | Republic Services, Inc.; Roskowiak Holdings Inc.; Republic Services, Inc.
10/16/2020
20201613 | G | Capital Dynamics Clean Energy Infrastructure Investors X SCS; LS Power Holdings, LP; Capital Dynamics Clean Energy Infrastructure Investors X SCS.
20201632 | G | Trian Star Trust; Comcast Corporation; Trian Star Trust.
20201633 | G | Trian Partners, L.P.; Comcast Corporation; Trian Partners, L.P.
20201634 | G | Trian Partners Strategic Investment Fund-N, L.P.; Comcast Corporation; Trian Partners Strategic Investment Fund-N, L.P.
10/20/2020
20201033 | G | Alstom S.A.; Bombardier Inc.; Alstom S.A.
20201639 | G | Brightstar Capital Partners Fund II, L.P.; SoftBank Group Corporation; Brightstar Capital Partners Fund II, L.P.
20210027 | G | Surgalign Holdings, Inc.; Pawel Lewicki; Surgalign Holdings, Inc.
20210028 | G | Alphabet Inc.; Intuit Inc.; Alphabet Inc.
20210029 | G | Partners Group Raven Parent, LLC; Arcanum Infrastructure, LLC; Partners Group Raven Parent, LLC.
20210037 | G | KKR Core Holding Company LLC; CNT Holdings I Corp.; KKR Core Holding Company LLC.
20210038 | G | Switchback Energy Acquisition Corporation; ChargePoint, Inc.; Switchback Energy Acquisition Corporation.
20210045 | G | Landmark Services Cooperative; Countryside Cooperative; Landmark Services Cooperative.
20210046 | G | H.I.G. Advantage Buyout Fund, L.P.; The Resolute Fund III, L.P.; H.I.G. Advantage Buyout Fund, L.P.
20210048 | G | GHO Capital Fund II LP; Excellere Capital Fund II, LP; GHO Capital Fund II LP.
20210052 | G | NextEra Energy, Inc.; Blackstone Power & Natural Resources Holdco L.P.; NextEra Energy, Inc.
20210056 | G | Snow Phipps III, L.P.; Innovative Labeling Solutions, Inc.; Snow Phipps III, L.P.
20210060 | G | LS Group Parent OpCo Holdings Inc.; LS OpCo, LLC; LS Group Parent OpCo Holdings Inc.
10/22/2020
20210051 | G | SolarWinds Corporation; SQL Sentry Holdings, LLC; SolarWinds Corporation.
20210062 | G | Devon Energy Corporation; WPX Energy, Inc.; Devon Energy Corporation.
20210066 | G | Gryphon Partners VI, L.P.; Vessco Holdings, LLC; Gryphon Partners VI, L.P.
20210067 | G | EnCap Energy Capital Fund X, L.P.; Devon Energy Corporation; EnCap Energy Capital Fund X, L.P.
20210068 | G | Data Bridge Holdings, LLC; Front Range Parent, LP; Data Bridge Holdings, LLC.
20210071 | G | Simon Property Group, Inc.; J.C. Penney Company, Inc.; Simon Property Group, Inc.
20210072 | G | Halmont Properties Corporation; J.C. Penney Company, Inc.; Halmont Properties Corporation.
20210075 | G | The Providence Service Corporation; One Equity Partners VI, L.P.; The Providence Service Corporation.
20210076 | G | Novus Capital Corporation; AppHarvest, Inc.; Novus Capital Corporation.
10/23/2020
20201240 | G | Berkshire Hathaway Inc.; Dominion Energy, Inc.; Berkshire Hathaway Inc.
20201605 | G | Sompo Holdings, Inc.; ITOCHU Corporation; Sompo Holdings, Inc.
20201621 | G | Sompo Holdings, Inc.; National Federation of Agricultural Co-operative; Sompo Holdings, Inc.
20210018 | G | Daniel Kretinsky; Macy's Inc.; Daniel Kretinsky.
10/26/2020
20210050 | G | James S. Mahan III; Live Oak Bancshares, Inc.; James S. Mahan III.
20210074 | G | State Farm Mutual Automobile Insurance Company; GAINSCO, Inc.; State Farm Mutual Automobile Insurance Company.
20210081 | G | GP ABX Holdings Partnership, L.P.; Berry Global Group, Inc.; GP ABX Holdings Partnership, L.P.
20210082 | G | Twilio Inc.; Segment.io, Inc.; Twilio Inc.
20210084 | G | Peter Reinhardt; Twilio Inc.; Peter Reinhardt.
20210085 | G | H.I.G. Advantage Buyout Fund, L.P.; Vistria Fund II, LP; H.I.G. Advantage Buyout Fund, L.P.
20210087 | G | Onex OD Limited Partnership; New Mountain Partners V (AIV-A), L.P.; Onex OD Limited Partnership.
20210088 | G | Live Oak Acquisition Corp.; Meredian Holdings Group, Inc.; Live Oak Acquisition Corp.
20210089 | G | Centerbridge Capital Partners III, L.P.; LSF9 Pharaoh L.P.; Centerbridge Capital Partners III, L.P.
20210091 | G | Oaktree Acquisition Corp.; Hims, Inc.; Oaktree Acquisition Corp.
20210098 | G | OMERS Administration Corporation; Trivest Fund V, L.P.; OMERS Administration Corporation.
20210103 | G | Kobe US Holdco, LP; Golden Gate Capital Opportunity Fund, L.P.; Kobe US Holdco, LP.
20210107 | G | David B. Baszucki; Roblox Corporation; David B. Baszucki.
20210110 | G | Molina Healthcare, Inc.; Affinity Health Plan, Inc.; Molina Healthcare, Inc.
10/27/2020
20210096 | G | USI Advantage Corp.; Findley Inc.; USI Advantage Corp.
20210097 | G | Bain Capital Europe Fund V, SCSp; Ahlstrom-Munksjo Oyj; Bain Capital Europe Fund V, SCSp.
20210118 | G | WCAS XIII, L.P.; Mr. Brian V. Moran; WCAS XIII, L.P.
10/28/2020
20191294 | G | Waste Management Inc.; Advanced Disposal Services, Inc.; Waste Management Inc.
20210061 | G | Bastian Lehmann; Uber Technologies, Inc.; Bastian Lehmann.
20210112 | G | RMG Acquisition Corp.; Michael Patterson; RMG Acquisition Corp.
10/29/2020
20201624 | G | Chamath Palihapitiya; Opendoor Labs Inc.; Chamath Palihapitiya.
10/30/2020
20191972 | S | Upjohn Inc.; Mylan N.V.; Upjohn Inc.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-25756 Filed 11-20-20; 8:45 am]

BILLING CODE 6750-01-P